DEPARTMENT OF COMMERCE

National Oceanic and Atmospheric Administration

Federal Consistency Appeal by WesternGeco

AGENCY: National Oceanic and Atmospheric Administration (NOAA), Department of Commerce (DOC).

ACTION: Notice of appeal.

SUMMARY: This announcement provides notice that the Department of Commerce (Department) has received a “Notice of Appeal” filed by WesternGeco (Appellant) requesting that the Secretary override an objection by the North Carolina Division of Coastal Management to a consistency certification for a proposed project to conduct a marine Geological and Geophysical seismic survey in the Atlantic Ocean.

ADDRESSES: NOAA intends to provide access to publicly available materials and related documents comprising the appeal record on the following website: http://www.regulations.gov/#!docketDetail;D=NOAA-HQ-2019-0089.

FOR FURTHER INFORMATION CONTACT: For questions about this Notice, contact Martha McCoy, NOAA Office of General Counsel, Oceans and Coasts Section, 1305 East-West Highway, Room 6111, Silver Spring, MD 20910, (301) 713-7391, martha.mccoy@noaa.gov.

SUPPLEMENTARY INFORMATION:

I. Notice of Appeal

On September 20, 2019, the Secretary of Commerce (Secretary) received a “Notice of Appeal” filed by WesternGeco pursuant to the Coastal Zone Management Act of 1972 (CZMA), 16 U.S.C. 1451 et seq., and implementing regulations found at 15 CFR part 930, subpart H. The “Notice of Appeal” is taken from an objection by the North Carolina Division of Coastal Management to a consistency certification for a proposed project to conduct a marine Geological and Geophysical seismic survey in the Atlantic Ocean. This matter constitutes an appeal of an “energy project” within the meaning of the CZMA regulations, see 15 CFR 930.123(c).

Under the CZMA, the Secretary may override the North Carolina Division of Coastal Management's objection on grounds that the project is consistent with the objectives or purposes of the CZMA, or is necessary in the interest of national security. To make the determination that the proposed activity is “consistent with the objectives or purposes of the CZMA,” the Department must find that: (1) The proposed activity furthers the national interest as articulated in sections 302 or 303 of the CZMA, in a significant or substantial manner; (2) the national interest furthered by the proposed activity outweighs the activity's adverse coastal effects, when those effects are considered separately or cumulatively; and (3) no reasonable alternative is available that would permit the proposed activity to be conducted in a manner consistent with the enforceable policies of the applicable coastal management program. 15 CFR 930.121. To make the determination that the proposed activity is “necessary in the interest of national security,” the Secretary must find that a national defense or other national security interest would be significantly impaired if the proposed activity is not permitted to go forward as proposed. 15 CFR 930.122.

II. Public Availability of Appeal Documents

NOAA intends to provide access to publicly available materials and related documents comprising the appeal record on the following website: http://www.regulations.gov/#!docketDetail;D=NOAA-HQ-2019-0089.

(Authority Citation: 15 CFR 930.128(a))

Adam Dilts,
Chief, Oceans and Coasts Section, NOAA Office of General Counsel.

[FR Doc. 2019-22642 Filed 10-18-19; 8:45 am]

BILLING CODE 3510-JE-P